FEDERAL COMMUNICATIONS COMMISSION

Sunshine Act Meeting; FCC To Hold Open Commission Meeting Wednesday, October 15, 2008 in Nashville, TN

October 8, 2008.

The Federal Communications Commission will hold an Open Meeting on the subjects listed below on Wednesday, October 15, 2008, which is scheduled to commence at 9:30 a.m. in Nashville, Tennessee.

Item No. | Bureau | Subject
1 | Media | Title: Amendment of Parts 73 and 74 of the Commission's Rules to Establish Rules for Digital Low Power Television, Television Translator, and Television Booster Stations and to Amend Rules for Digital Class A Television Stations.
|  | Summary: The Commission will consider an Order, Further Notice of Proposed Rulemaking, and Memorandum Opinion and Order considering issues with respect to the low power television digital transition.
2 | Public Safety & Homeland Security | Title: Improving Public Safety Communications in the 800 MHz Band; Relinquishment By Sprint Nextel of Channels in the Interleaved, Expansion, and Guard Bands.
|  | Summary: The Commission will consider an Order addressing Sprint Nextel's June 17, 2008 Petition for Relief regarding its 800 MHz spectrum holdings in the Interleaved Band (809-815/854-860 MHz), Expansion Band (815-816/860-861 MHz) and Guard Band (816-187/861-862 MHz).
3 | Wireless Tele-Communications | Title: Promoting Efficient Use of Spectrum Through Elimination of Barriers to the Development of Secondary Markets (WT Docket No. 00-230).
|  | Summary: The Commission will consider a Second Order on Reconsideration concerning the Secondary Markets proceeding.
4 | Wireless Tele-Communications | Title: Amendment of Part 90 of the Commission's Rules To Provide for Flexible Use of the 896-901 MHz and 935-940 MHz Band Allotted to the Business and Industrial Land Transportation Pool.
|  | Summary: The Commission will consider a Report and Order whether to adopt geographic service licensing and competitive bidding rules for spectrum presently unencumbered within the spectrum currently allotted at 900 MHz for Business/Industrial Land Transportation (B/ILT) use. The Commission will also consider appropriate interference protection standards and whether the Commission should lift the “freeze” placed on applications for new 900 MHz B/ILT authorizations.
5 | Wireless Tele-Communications | Title: EFL Realty Trust, Applications for New Licenses In the Non-SMR 900 MHz Band for Industrial/Business Pool, Trunked (YU) Stations at Multiple Locations.
|  | Summary: The Commission will consider an Order addressing the dismissal of thirteen applications filed by EFL Realty Trust, proposing non-Specialized Mobile Radio trunked service in the Industrial/Business Pool 900 MHz band.
6 | International | Title: 2000 Biennial Regulatory Review—Streamlining and Other Revisions of Part 25 of the Commission's Rules Governing the Licensing of, and Spectrum Usage by, Satellite Network Earth Stations and Space Stations.
|  | Streamlining the Commission's Rules and Regulations for Satellite Applications and Licensing Procedures.
|  | Summary: The Commission will consider an Eighth Report and Order and Order On Reconsideration concerning issues raised in the Third Further Notice of Proposed Rulemaking in this proceeding, IB Docket No. 00-248.
7 | International | Title: Second Annual Report and Analysis of Competitive Market Conditions with Respect to Domestic and International Satellite Communications Services
|  | Summary: The Commission will consider a Second Annual Report to the United States Congress on the status of competition in the markets for domestic and international satellite communications services, as required by Section 703 of the Communications Satellite Act of 1962, as amended.
*The summaries listed in this notice are intended for the use of the public attending open Commission meetings. Information not summarized may also be considered at such meetings. Consequently these summaries should not be interpreted to limit the Commission's authority to consider any relevant information.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

For a fee this meeting can be viewed live over George Mason University's Capitol Connection. The Capitol Connection also will carry the meeting live via the Internet. To purchase these services, call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

Federal Communications Commission.
Marlene H. Dortch,
Secretary.

[FR Doc. E8-24412 Filed 10-9-08; 4:15 pm]

BILLING CODE 6712-01-P